DEPARTMENT OF TRANSPORTATION

Federal Aviation Administration

14 CFR Part 71

[Airspace Docket No. 00-ASO-5]

Amendment of Class E Airspace; McMinnville, TN

AGENCY: Federal Aviation Administration (FAA), DOT.

ACTION: Final rule.

SUMMARY: This action amends Class E airspace at McMinnville, TN. A Global Positioning System (GPS) Standard Instrument Approach Procedure (SIAP), helicopter point in space approach, has been developed for Columbia River Park Hospital, McMinnville, TN. As a result, additional controlled airspace extending upward from 700 feet Above Ground Level (AGL) is needed to accommodate the SIAP. This action amends the Class E5 airspace for McMinnville, TN, to the east, in order to include the point in space approach serving Columbia River Park Hospital.

EFFECTIVE DATE: 0901 UTC, June 15, 2000.

FOR FURTHER INFORMATION CONTACT: Nancy B. Shelton, Manager, Airspace Branch, Air Traffic Division, Federal Aviation Administration, P.O. Box 20636, Atlanta, GA 30320; telephone (404) 305-5627.

SUPPLEMENTARY INFORMATION:

History

On February 18, 2000, the FAA proposed to amend part 71 of the Federal Aviation Regulations (14 CFR part 71) by amending Class E airspace at McMinnville, TN, (65 FR 8325). This action provides adequate Class E airspace for IFR operations at the Columbia River Park Hospital. Designations for Class E airspace extending upward from 700 feet or more above the surface are published in paragraph 6005 of FAA Order 7400.9G, dated September 1, 1999, and effective September 16, 1999, which is incorporated by reference in 14 CFR part 71.1. The Class E designation listed in this document will be published subsequently in the Order.

Interested parties were invited to participate in this rulemaking proceeding by submitting written comments on the proposal to the FAA. No comments objecting to the proposal wee received.

The Rule

This amendment to part 71 of the Federal Aviation Regulations (14 CFR part 71) amends Class E airspace at McMinnville, TN for the Columbia River Park Hospital.

The FAA has determined that this regulation only involves an established body of technical regulations for which frequent and routine amendments are necessary to keep them operationally current. It, therefore, (1) is not a “significant regulatory action” under Executive Order 12866; (2) is not a “significant rule” under DOT Regulatory Policies and Procedures (44 FR 11034; February 26, 1979), and (3) does not warrant preparation of a Regulatory Evaluation, as the anticipated impact is so minimal. Since this is a routine matter that will only affect air traffic procedures and air navigation, it is certified that this rule will not have a significant economic impact on a substantial number of small entities under the criteria of the Regulatory Flexibility Act.

List of Subjects in 14 CFR Part 71

Airspace, Incorporation by Reference, Navigation (air).

Adoption of the Amendment

In consideration of the foregoing, the Federal Aviation Administration amends 14 CFR part 71 as follows:

PART 71—DESIGNATION OF CLASS A, CLASS B, CLASS C, CLASS D AND CLASS E AIRSPACE AREAS; AIRWAYS; ROUTES; AND REPORTING POINTS

1. The authority citation for 14 CFR part 71 continues to read as follows:

Authority: 49 U.S.C. 106(g), 40103, 40113, 40120; EO 10854, 24 FR 9565, 3 CFR, 1959-1963 Comp., p. 389.

§ 71.1 [Amended]

2. The incorporation by reference in 14 CFR 71.1 of Federal Aviation Administration Order 7400.9G, Airspace Designations and Reporting Points, dated September 1, 1999, and effective September 16, 1999, is amended as follows:

Paragraph 6005 Class E airspace areas extending upward from 700 feet or more above the surface of the earth.

* * * * *

ASO TN E5 McMinnville, TN [Revised]

McMinnville, Warren County Memorial Airport, TN

(Lat. 35°41′55″ N, long. 85°50′38″ W)

Warri NDB

(Lat. 35°45′09″ N, long. 85°45′51″ W)

Columbia River Park Hospital, McMinnville, TN

Point In Space Coordinates

(Lat. 35°42′06″ N, long. 85°43′45″ W)

That airspace extending upward from 700 feet or more above the surface within a 11-mile radius of Warrant County Memorial airport and within 2.5 miles each side of the 051° bearing from the Warri NDB, extending from the 11-miles radiu to 7 miles northeast of the NDB, and that airspace within a 6-mile radius of the point in space (Lat. 35°42′06″ N, long. 85°43′45″ W) serving Columbia River Park Hospital, McMinnville, TN,

* * * * *

Issued in College Park, Georgia, on March 31, 2000.
Nancy B. Shelton,
Acting Manager, Air Traffic Division, Southern Region.

[FR Doc. 00-9217 Filed 4-12-00; 8:45 am]

BILLING CODE 4910-13-M